DEPARTMENT OF ENERGY

Federal Energy Regulatory Commission

[Docket No. AD20-18-000]

Offshore Wind Integration in RTOs/ISOs Supplemental Notice of Technical Conference

As first announced in the Notice of Technical Conference issued in this proceeding on June 17, 2020, the Federal Energy Regulatory Commission (Commission) will convene a staff-led technical conference in the above referenced proceeding on Tuesday, October 27, 2020, from 9:00 a.m. to 4:30 p.m. (ET).¹ The conference will be held virtually and will be webcast. Commissioners may attend and participate. This conference will consider whether and how existing regional transmission organization (RTO) and independent system operator (ISO) interconnection, merchant transmission and transmission planning frameworks can accommodate anticipated growth in offshore wind generation in an efficient or cost-effective manner that safeguards open access transmission principles. The conference also will provide an opportunity for participants to discuss possible changes or improvements to the current regulatory frameworks that may accommodate such growth. Attached to this Supplemental Notice is an agenda for the technical conference, which includes the final conference program and speakers.

¹ 18 CFR 2.1(a)(1)(xi) (2020).

We note that discussions at the conference may involve issues raised in proceedings that are currently pending before the Commission. These proceedings include, but are not limited to:

| Docket Nos.
Constellation Mystic Power, LLC v. ISO New England Inc | EL20-52-000 and EL20-52-001.
Midcontinent Independent System Operator, Inc | ER20-940-002.
Midcontinent Independent System Operator, Inc. and Southwest Power Pool, Inc | ER20-943-002.
Midcontinent Independent System Operator, Inc | ER20-942-002.
Midcontinent Independent System Operator, Inc | ER20-2788-000.
New York Independent System Operator Inc | EL20-65-000.
PJM Interconnection, L.L.C | ER20-939-001.
PJM Interconnection, L.L.C. and Midcontinent Independent System Operator, Inc | ER20-944-002.
PJM Interconnection, L.L.C | ER20-2308-000.
Southwest Power Pool, Inc | ER20-945-001.
Vineyard Wind LLC | ER19-570-000.

There is no fee for attendance, and the conference is open for the public to attend via webcast. Information on this technical conference, including a link to the webcast, will be posted on the conference's event page on the Commission's website (https://www.ferc.gov/news-events/events/technical-conference-regarding-offshore-wind-integration-rtosisos-docket-no-ad20) prior to the event. The conference will be transcribed. Transcripts of the conference will be available for a fee from Ace-Federal Reporters, Inc. (202-347-3700). For more information about this technical conference, please contact:

Sarah McKinley (Logistical Information), Office of External Affairs, (202) 502-8004, sarah.mckinley@ferc.gov

David Rosner (Technical Information), Office of Energy Policy and Innovation, (202) 502-8479, david.rosner@ferc.gov

Rishi Garg (Legal Information), Office of the General Counsel, (202) 502-8667, rishi.garg@ferc.gov

Dated: October 22, 2020.
Nathaniel J. Davis, Sr.,
Deputy Secretary.

[FR Doc. 2020-23860 Filed 10-27-20; 8:45 am]

BILLING CODE 6717-01-P